DEPARTMENT OF ENERGY

Federal Energy Regulatory Commission

[Project No. 2736-046]

Idaho Power Company; Notice of Intent To Prepare an Environmental Assessment and Revising the Processing Schedule

On February 14, 2023, Idaho Power Company filed an application for a new major license for the 67.5-megawatt American Falls Hydroelectric Project (American Falls Project; FERC No. 2736). The American Falls project is located on the Snake River in Power County, Idaho, near the city of American Falls, about 25 miles southwest of Pocatello. The project is located at the American Falls Dam, owned and operated by the United States Bureau of Reclamation. The project occupies 7.37 acres of United States land administered by the U.S. Bureau of Reclamation in Power County, Idaho.

In accordance with the Commission's regulations, on February 7, 2024, Commission staff issued a notice that the project was ready for environmental analysis (REA Notice). Based on the information in the record, including comments filed on the REA Notice and the water quality certification issued by Idaho DEQ, staff does not anticipate that licensing the project would constitute a major federal action significantly affecting the quality of the human environment. On April 22, 2024, the Commission issued a notice indicating that staff intended to prepare a draft and final Environmental Assessment (EA). However, upon further review, staff intends to prepare a single EA on the application to relicense the American Falls Project.

The EA will be issued and circulated for review by all interested parties. All comments filed on the EA will be analyzed by staff and considered in the Commission's final licensing decision.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

By this notice, Commission staff is updating the procedural schedule for completing the EA. The revised schedule is shown below. Further revisions to the schedule may be made as appropriate.

¹ The Council on Environmental Quality's (CEQ) regulations under 40 CFR 1501.10(b)(1) (2023) require that EAs be completed within 1 year of the Federal action agency's decision to prepare an EA. See National Environmental Policy Act, 42 U.S.C. 4321 et seq., as amended by section 107(g)(1)(B)(iii) of the Fiscal Responsibility Act of 2023, Public Law 118-5, 4336a, 137 Stat. 42.

Milestone | Target date
Commission issues EA | January 2025.¹
Comments on EA | February 2025.

Any questions regarding this notice may be directed to Golbahar Mirhosseini at golbahar.mirhosseini@ferc.gov.

Dated: October 9, 2024.
Debbie-Anne Reese,
Secretary.

[FR Doc. 2024-23848 Filed 10-15-24; 8:45 am]

BILLING CODE 6717-01-P